DEPARTMENT OF TRANSPORTATION

Federal Aviation Administration

14 CFR Part 39

[Docket No. FAA-2015-6547; Directorate Identifier 2014-NM-129-AD]

RIN 2120-AA64

Airworthiness Directives; Airbus Airplanes

AGENCY: Federal Aviation Administration (FAA), DOT.

ACTION: Notice of proposed rulemaking (NPRM).

SUMMARY: We propose to supersede Airworthiness Directive (AD) 2014-03-14, for all Airbus Model A330-200 and -300 series airplanes, and Model A340-200, -300, -500, and -600 series airplanes. AD 2014-03-14 currently requires removing bulb-type maintenance lights; installing a drain mast on certain airplanes; and installing muffs on connecting bleed elements on certain airplanes. Since we issued AD 2014-03-14, we have determined that additional actions are necessary to address the identified unsafe condition for certain airplanes on which muffs are installed. For certain Model A340-200 and -300 series airplanes, this proposed AD would also require replacing certain insulation sleeves with new insulation sleeves. We are proposing this AD to prevent ignition sources inside fuel tanks, which, in combination with flammable fuel vapors, could result in fuel tank explosions and consequent loss of the airplane.

DATES: We must receive comments on this proposed AD by January 25, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-6547; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-6547; Directorate Identifier 2014-NM-129-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 31, 2014, we issued AD 2014-03-14, Amendment 39-17752 (79 FR 9382, February 19, 2014). AD 2014-03-14 requires actions intended to address an unsafe condition on all Airbus Model A330-200 and -300 series airplanes, and Model A340-200, -300, -500, and -600 series airplanes.

Since we issued AD 2014-03-14, Amendment 39-17752 (79 FR 9382, February 19, 2014), the European Aviation Safety Agency (EASA), which is the Technical Agent for the Member States of the European Union, has issued EASA Airworthiness Directive 2014-0148, dated June 13, 2014 (referred to after this the Mandatory Continuing Airworthiness Information, or “the MCAI”), to correct an unsafe condition for the specified products. The MCAI states:

[Subsequent to accidents involving Fuel Tank Systems in flight and on ground] * * *, the FAA published Special Federal Aviation Regulation (SFAR) 88, and the Joint Aviation Authorities (JAA) published Interim Policy INT/POL/25/12.

In response to these regulations, a global design review conducted by Airbus on the A330 and A340 type design Section 19, which is a flammable fluid leakage zone and a zone adjacent to a fuel tank, highlighted potential deviations. The specific identified cases were that in-flight fuel drainage is insufficient on A340-500/-600 aeroplanes, maintenance lights are not qualified explosion-proof, and hot surfaces may exist on bleed systems during normal/failure operations.

This condition, if not corrected, in combination with a fuel leak generating flammable vapours in the area, could result in a fuel tank explosion and consequent loss of the aeroplane.

To address this unsafe condition, Airbus developed various modifications of the aeroplane, to be embodied in service.

Consequently, EASA issued AD 2013-0033 [http://ad.easa.europa.eu/blob/easa_ad_2013_0033_superseded.pdf/AD_2013-0033_1] [which corresponds to FAA AD 2014-03-14, Amendment 39-17752 (79 FR 9382, February 19, 2014)] to require removal of bulb type maintenance lights for all aeroplanes, installation of a drain mast between Frame (FR) 80 and FR83 for A340-500/-600 aeroplanes, and installation of muffs on connecting bleed elements to minimize hot surfaces on A330 and A340-200/-300 aeroplanes.

Since that [EASA] AD was issued, it was reported that, for A340-200/-300 aeroplanes, accomplishment instructions in the applicable Airbus Service Bulletins (SB) for aeroplanes in Configurations 002 and 005 were detailed in Configuration 003 and, conversely, accomplishment instructions for aeroplane[s] in Configuration 003 were detailed in Configurations 002 and 005. This can lead to incorrect installation of some insulation sleeves on the Auxiliary Power Unit (APU) Air Bleed Ducts between Frame 83 and 84 for configurations 002, 003 and 005 as per Airbus SB A340-36-4035 at original issue. Prompted by this finding, Airbus revised the affected SB with additional work required for aeroplanes included in configurations 002, 003 and 005 that were modified using the original issue of the SB.

For the reasons described above, this [EASA] AD retains the requirements of EASA AD 2013-0033, which is superseded, incorporates reference to the corrected Airbus SB A340-36-4035 Revision 01 and requires the additional work as specified in Airbus SB A340-36-4035 Revision 01 for aeroplanes already modified per the original SB A340-36-4035.

The additional work is replacing the insulation sleeves between frames 83 and 84 with new insulation sleeves. You may examine the MCAI in the AD docket on the Internet at http://www.regulations.gov by searching for and locating Docket No. FAA-2015-6547.

Related Service Information Under 1 CFR Part 51

Airbus has issued the following service bulletins.

• Airbus Service Bulletin A330-33-3041, Revision 02, dated November 7, 2013, which describes procedures for removing bulb-type maintenance lights.

• Airbus Service Bulletin A330-36-3037, Revision 02, dated April 7, 2014, which describes procedures for bleed leak detection loop modification of the auxiliary power unit (APU).

• Airbus Service Bulletin A340-33-4026, Revision 02, dated November 7, 2013, which describes procedures for removing bulb-type maintenance lights.

• Airbus Service Bulletin A340-36-4033, Revision 02, dated May 19, 2014, which describes procedures for bleed leak detection loop modification of the APU.

• Airbus Service Bulletin A340-36-4035, Revision 01, dated September 24, 2013, which describes procedures for installing muffs on connecting bleed elements on certain airplanes.

This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Explanation of New Service Information for Optional Actions

In paragraph (i) of AD 2014-03-14, Amendment 39-17752 (79 FR 9382, February 19, 2014), an optional method of compliance is permitted using Airbus Service Bulletin A330-36-3037, Revision 01, dated January 24, 2013; or Airbus Service Bulletin A340-36-4033, Revision 01, dated January 28, 2013; as applicable. In addition, credit is given in paragraph (k)(3) of AD 2014-03-14 for using Airbus Service Bulletin A340-36-4033, dated September 23, 2011.

However, the MCAI only allows the use of Airbus Service Bulletin A330-36-3037, Revision 02, dated April 7, 2014; and Airbus Service Bulletin A340-36-4033, Revision 02, dated May 19, 2014; as applicable. Additional work is necessary for airplanes on which earlier revisions of this service information was done.

Therefore, in paragraph (i) of this proposed AD, we refer to only Airbus Service Bulletin A330-36-3037, Revision 02, dated April 7, 2014; and Airbus Service Bulletin A340-36-4033, Revision 02, dated May 19, 2014; as applicable.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as RC (required for compliance) in any service information have a direct effect on detecting, preventing, resolving, or eliminating an identified unsafe condition.

As specified in a Note under the Accomplishment Instructions of certain specified service information, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in a serviceable condition. Any substitutions or changes to procedures or tests identified as RC will require approval of an AMOC.

Costs of Compliance

We estimate that this proposed AD affects 43 Model A330 series airplanes of U.S. registry. There are no Model A340 airplanes registered in the U.S.

The actions that are required by AD 2014-03-14, Amendment 39-17752 (79 FR 9382, February 19, 2014), and retained in this proposed AD take about 21 work-hours per product, at an average labor rate of $85 per work-hour. Required parts cost about $5,219 per product. Based on these figures, the estimated cost of the actions that are required by AD 2014-03-14 is $7,004 per product.

We also estimate that it would take about 6 work-hours per product to comply with the basic requirements of this proposed AD. The average labor rate is $85 per work-hour. Required parts would cost about $279 per product. Based on these figures, we estimate the cost of this proposed AD on U.S. operators to be $33,927, or $789 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-03-14, Amendment 39-17752 (79 FR 9382, February 19, 2014), and adding the following new AD:

Airbus: Docket No. FAA-2015-6547; Directorate Identifier 2014-NM-129-AD.

(a) Comments Due Date

We must receive comments by January 25, 2016.

(b) Affected ADs

This AD replaces AD 2014-03-14, Amendment 39-17752 (79 FR 9382, February 19, 2014).

(c) Applicability

This AD applies to the Airbus airplanes, certificated in any category, specified in paragraphs (c)(1) and (c)(2) of this AD, all manufacturer serial numbers.

(1) Airbus Model A330-201, -202, -203, -223, -243, -301, -302, -303, -321, -322, -323, -341, -342, and -343 airplanes.

(2) Airbus Model A340-211, -212, -213, -311, -312, -313, -541, and -642 airplanes.

(d) Subject

Air Transport Association (ATA) of America Code 26, Fire protection; 33, Lights; 36, Pneumatic; 53, Fuselage.

(e) Reason

This AD results from fuel system reviews conducted by the airplane manufacturer. We are issuing this AD to prevent ignition sources inside fuel tanks, which, in combination with flammable fuel vapors, could result in fuel tank explosions and consequent loss of the airplane.

(f) Compliance

Comply with this AD within the compliance times specified, unless already done.

(g) Retained Maintenance Light Removal, With New Service Information

This paragraph restates the requirements of paragraph (g) of AD 2014-03-14, Amendment 39-17752 (79 FR 9382, February 19, 2014), with new service information. Except for airplanes on which Airbus Modification 56739 has been incorporated in production: Within 26 months after March 26, 2014 (the effective date of AD 2014-03-14), remove the maintenance lights, in accordance with the Accomplishment Instructions of the applicable Airbus service information specified in paragraphs (g)(1), (g)(2), and (g)(3) of this AD.

(1) Airbus Service Bulletin A330-33-3041, Revision 01, dated July 10, 2012; or Airbus Service Bulletin A330-33-3041, Revision 02, dated November 7, 2013 (for Model A330 series airplanes). As of the effective date of this AD, use only Airbus Service Bulletin A330-33-3041, Revision 02, dated November 7, 2013, for the actions required by paragraph (g) of this AD (for Model A330 series airplanes).

(2) Airbus Service Bulletin A340-33-4026, Revision 01, dated July 10, 2012; or Airbus Service Bulletin A340-33-4026, Revision 02, dated November 7, 2013 (for Model A340-200 and -300 series airplanes). As of the effective date of this AD, use only Airbus Service Bulletin A340-33-4026, Revision 02, dated November 7, 2013, for the actions required by paragraph (g) of this AD (for Model A340-200 and -300 series airplanes).

(3) Airbus Service Bulletin A340-33-5006, dated January 3, 2012 (for Model A340-500 and -600 series airplanes).

Note 1 to paragraph (g) of this AD: For Model A340-500 and -600 series airplanes, Airbus has issued Airbus Service Bulletin A340-33-5007 to introduce halogen-type lights which are qualified as explosion proof and that can be installed (at operators' discretion) after removal of the non-explosion-proof lights required by paragraph (g) of this AD. For Model A330 series airplanes and Model A340-200/-300 series airplanes, Airbus has issued Airbus Service Bulletins A330-33-3042 and A340-33-4027 for the installation of similar lights.

(h) Retained Insulation Muff Installation, With No Changes

This paragraph restates the requirements of paragraph (h) of AD 2014-03-14, Amendment 39-17752 (79 FR 9382, February 19, 2014), with no changes. For Model A330-200 and -300 series airplanes, and Model A340-200 and -300 series airplanes, except those airplanes on which Airbus Modification 52260 has been incorporated in production: Within 26 months after March 26, 2014 (the effective date of AD 2014-03-14), install insulation muffs on the connecting auxiliary power unit (APU) bleed air duct, in accordance with the Accomplishment Instructions of the applicable Airbus service information specified in paragraphs (h)(1), (h)(2), and (h)(3) of this AD.

(1) Airbus Service Bulletin A330-36-3038, dated January 16, 2012, for Model A330 series airplanes on which Airbus Service Bulletin A330-36-3032 has been incorporated.

(2) Airbus Mandatory Service Bulletin A330-36-3040, Revision 01, dated November 26, 2012, for Model A330 series airplanes on which Airbus Service Bulletin A330-36-3032 has not been incorporated.

(3) Airbus Mandatory Service Bulletin A340-36-4035, Revision 01, dated September 24, 2013, for Model A340 series airplanes.

(i) Retained Alternative Action to Paragraph (h) of This AD

This paragraph restates the alternative action specified in paragraph (i) of AD 2014-03-14, Amendment 39-17752 (79 FR 9382, February 19, 2014), with new service information. For Model A330 series airplanes on which the modification described in Airbus Service Bulletin A330-36-3032 has not been incorporated, and for Model A340 series airplanes: Doing the bleed leak detection loop modification of the APU, in accordance with the Accomplishment Instructions of the applicable Airbus service bulletin specified in paragraphs (i)(1) and (i)(2) of this AD, is an acceptable alternative to the actions required by paragraph (h) of this AD, provided the modification is accomplished within 26 months after March 26, 2014 (the effective date of AD 2014-03-14).

(1) Airbus Service Bulletin A330-36-3037, Revision 02, dated April 7, 2014.

(2) Airbus Service Bulletin A340-36-4033, Revision 02, dated May 19, 2014.

(j) Retained Drain Mast Installation, With No Changes

This paragraph restates the requirements of paragraph (j) of AD 2014-03-14, Amendment 39-17752 (79 FR 9382, February 19, 2014), with no changes. For Model A340-500 and -600 series airplanes, except those on which Airbus Modification 54636 or 54637 has been incorporated in production: Within 26 months after March 26, 2014 (the effective date of AD 2014-03-14), install a drain mast between frame (FR) 80 and FR 83, in accordance with the Accomplishment Instructions of Airbus Mandatory Service Bulletin A340-53-5031, Revision 02, dated August 3, 2011.

(k) New Requirement of This AD: Replacement of Certain Insulation Sleeves

For Model A340 series airplanes in configurations 002, 003, and 005, as described in Airbus Service Bulletin A340-36-4035, dated September 18, 2012, that have been modified before the effective date of this AD in accordance with the Accomplishment Instructions of Airbus Service Bulletin A340-36-4035, dated September 18, 2012: Within 14 months after the effective date of this AD, replace the insulation sleeves between frames 83 and 84 with new insulation sleeves, in accordance with the Accomplishment Instructions of Airbus Service Bulletin A340-36-4035, Revision 01, dated September 24, 2013.

(l) Credit for Previous Actions

(1) This paragraph provides credit for actions required by paragraph (g) of this AD, if those actions were performed before March 26, 2014 (the effective date of AD 2014-03-14, Amendment 39-17752 (79 FR 9382, February 19, 2014)), using Airbus Service Bulletin A330-33-3041, dated January 3, 2012; or Airbus Service Bulletin A340-33-4026, dated January 3, 2012; as applicable; which are not incorporated by reference in this AD.

(2) This paragraph provides credit for actions required by paragraph (h) of this AD, if those actions were performed before March 26, 2014 (the effective date of AD 2014-03-14, Amendment 39-17752 (79 FR 9382, February 19, 2014)), using Airbus Service Bulletin A330-36-3040, dated September 18, 2012, which is not incorporated by reference in this AD.

(3) For Model A340 series airplanes in configurations 001 and 004, as described in Airbus Service Bulletin A340-36-4035, dated September 18, 2012: This paragraph provides credit for actions required by paragraph (h) of this AD, if those actions were performed before the effective date of this AD using Airbus Service Bulletin A340-36-4035, dated September 18, 2012, which is not incorporated by reference in this AD.

(4) This paragraph provides credit for actions required by paragraph (j) of this AD, if those actions were performed before March 26, 2014 (the effective date of AD 2014-03-14, Amendment 39-17752 (79 FR 9382, February 19, 2014)), using Airbus Service Bulletin A340-53-5031, dated July 31, 2006; or Airbus Service Bulletin A340-53-5031, Revision 01, dated January 10, 2008; as applicable; which are not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for paragraphs (g) and (h) of AD 2014-03-14, Amendment 39-17752 (79 FR 9382, February 19, 2014), are approved as AMOCs for the corresponding provisions of paragraphs (g) and (h) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2014-0148, dated June 13, 2014, for related information. This MCAI may be found in the AD docket on the Internet at http://www.regulations.gov by searching for and locating Docket No. FAA-2015-6547.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on December 4, 2015.
Michael Kaszycki,
Acting Manager, Transport Airplane Directorate, Aircraft Certification Service.

[FR Doc. 2015-31210 Filed 12-10-15; 8:45 am]

BILLING CODE 4910-13-P